DEPARTMENT OF EDUCATION

Applications for New Awards: Disability and Rehabilitation Research Projects and Centers Program; Disability and Rehabilitation Research Projects; Burn Model Systems Centers; Correction

AGENCY: Office of Special Education and Rehabilitative Services, Department of Education.

ACTION: Notice; correction.

Overview Information: National Institute on Disability and Rehabilitation Research (NIDRR)—Disability and Rehabilitation Research Projects and Centers Program—Disability and Rehabilitation Research Projects—Burn Model Systems Centers (CFDA 84.133A-3); correction.

SUMMARY: On June 20, 2012, we published in the Federal Register (77 FR 37012) a notice inviting applications for new awards for FY 2012 under Disability and Rehabilitation Research Projects and Centers Program—Disability and Rehabilitation Research Projects—Burn Model Systems Centers (CFDA 84.133A-3). In one location, we misstated the deadline for the transmittal of applications. This document corrects that error. We make no other changes to the notice.

FOR FURTHER INFORMATION CONTACT: Lynn Medley or Marlene Spencer as follows:

Lynn Medley, U.S. Department of Education, 400 Maryland Avenue SW., Room 5140, PCP, Washington, DC 20202-2700. Telephone: (202) 245-7338 or by email: Lynn.Medley@ed.gov.

Marlene Spencer, U.S. Department of Education, 400 Maryland Avenue SW., Room 5133, PCP, Washington, DC 20202-2700. Telephone: (202) 245-7532 or by email: Marlene.Spencer@ed.gov.

If you use a telecommunications device for the deaf (TDD) or a text telephone (TTY) call the Federal Relay Service (FRS), toll free, at 1-800-877-8339.

SUPPLEMENTARY INFORMATION: We Make the Following Correction: On page 37013, in the second column, correct the date given for the “Deadline for Transmittal of Applications” to “August 9, 2012.”

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY call the FRS, toll-free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents by using the article search feature at: www.federalregister.gov. Specifically, through the advanced search feature of this site, you can limit your search to documents published by the Department.

Dated: July 5, 2012.
Alexa Posny,
Assistant Secretary for Special Education and Rehabilitative Services.

[FR Doc. 2012-16831 Filed 7-9-12; 8:45 am]

BILLING CODE 4000-01-P